DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Eugene, OR and Galveston, TX. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before June 17, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: West Eugene EmX Extension Project, Lane County, OR. Project sponsor: Lane Transit District (LTD). Project description: The West Eugene EmX Extension (WEEE) Project will be an 8.8-mile (round trip) westerly extension of the Franklin/Gateway EmX Bus Rapid Transit (BRT) line. The West Eugene EmX Extension would be the third BRT corridor implemented in the Eugene-Springfield metropolitan area. This notice is for the West Eugene EmX Extension only. When the extension is complete, the EmX system will link residential and commercial activity centers in the West 11th Avenue Corridor with the region's two central business districts (Eugene and Springfield) and the region's two largest employers (the University of Oregon and Peace Health Hospital). The project includes approximately 5.9 miles of new BRT lanes, 13 new stations, seven new hybrid electric vehicles, intersection and traffic-signal improvements, and a variety of bicycle and pedestrian improvements. Final agency actions: Section 4(f) de minimis impact determination; Section 106 finding of no adverse effect; project-level air quality conformity, and Finding of No Significant Impact (FONSI), dated December 20, 2012. Supporting documentation: Environmental Assessment, dated July 2012.

2. Project name and location: Galveston Downtown Transit Terminal/Parking Facility Project, Galveston, TX. Project sponsor: City of Galveston, TX (Island Transit). Project description: The project will be an intermodal transit terminal and parking facility in downtown Galveston, on the northeast corner of 25th Street and Strand Street. The project will consist of a single building with bus boarding areas, passenger waiting areas, rest rooms, retail space, and two and one-half levels of parking. Final agency actions: No use determination of Section 4(f) resources; Section 106 finding of no adverse effect; project-level air quality conformity; and Finding of No Significant Impact (FONSI), dated September 4, 2012. Supporting documentation: Environmental Assessment, dated April 2012.

Issued on: January 14, 2013.
Lucy Garliauskas,
Associate Administrator for Planning and Environment, Washington, DC.

[FR Doc. 2013-01012 Filed 1-17-13; 8:45 am]

BILLING CODE P